DEPARTMENT OF DEFENSE

Office of the Secretary

[Docket ID DoD-2014-OS-0020]

Manual for Courts-Martial; Proposed Amendments

AGENCY: Joint Service Committee on Military Justice (JSC), DoD.

ACTION: Annual Review of the Manual for Courts-Martial, United States.

SUMMARY: Pursuant to Executive Order 12473—Manual for Courts-Martial, United States, 1984, and Department of Defense Directive 5500.17, Role and Responsibility of the Joint Service Committee (JSC) on Military Justice, the JSC is conducting an annual review of the Manual for Courts-Martial (MCM), United States.

The committee invites members of the public to suggest changes to the Manual for Courts-Martial. Please provide supporting rationale for any proposed changes.

DATES: Proposed changes must be received no later than 60 days from publication in the Federal Register.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Major Daniel C. Mamber, Chief of Joint Services Policy and Legislation Section, Military Justice Division, AFLOA/JAJM, 1500 West Perimeter Road, Suite 1130, Joint Base Andrews, Maryland, 20762, 240-612-4828.

Dated: February 6, 2014.
Aaron Siegel,
Alternate OSD Federal Register Liaison Officer, Department of Defense.

[FR Doc. 2014-02884 Filed 2-10-14; 8:45 am]

BILLING CODE 5001-06-P